DELAWARE RIVER BASIN COMMISSION

Notice of Public Hearing on Stone Energy Corporation Proposed Surface Water Withdrawal and Natural Gas Well Site

SUMMARY: Because of the high level of public interest in projects within the Delaware Basin that are associated with natural gas drilling activities, the Delaware River Basin Commission (DRBC or “Commission”) will hold a special public hearing on two projects sponsored by the Stone Energy Corporation (hereinafter, “Stone Energy”) to support natural gas exploration and development activities within the basin. One of the two projects entails a surface water withdrawal from the West Branch Lackawaxen River in Mount Pleasant Township, Pennsylvania (Docket No. D-2009-13-1). The other concerns an existing natural gas well drilling pad site in Clinton Township, Pennsylvania (Docket No. D-2009-18-1). Both projects are located in Wayne County, Pennsylvania, within the drainage area of a portion of the main stem Delaware River that the Commission has classified as Special Protection Waters.

DATES: The hearing will take place on Wednesday, February 24, 2010 from 3 p.m. until 7 p.m. Written comments will be accepted until 5 p.m. on March 12, 2010.

ADDRESSES: The hearing will take place at the Best Western Inn at Hunt's Landing, 126 Routes 6 & 209, Matamoras, Pennsylvania 18336, beginning at 3 p.m. and ending at 7 p.m. Written comments may be submitted at the hearing and may also be sent as follows: via e-mail to Paula.Schmitt@drbc.state.nj.us and otherwise to the attention of the Commission Secretary, DRBC, either by fax to (609) 883-9522; U.S. Mail to P.O. Box 7360, West Trenton, NJ 08628-0360; or delivery service to 25 State Police Drive, West Trenton, NJ 08628-0360. Regardless of the method of submission, comments should include the name, affiliation (if any) and address of the commenter and the subject line “Public Comment—Stone Energy Dockets.”

FOR FURTHER INFORMATION CONTACT: For questions about the upcoming hearing that are not answered in the section of this notice entitled SUPPLEMENTARY INFORMATION, please contact Ms. Paula Schmitt at 609-477-7224 or Ms. Katharine O'Hara at 609-477-7205.

SUPPLEMENTARY INFORMATION: Draft dockets. Dockets Nos. D-2009-13-1 (water withdrawal) and D-2009-18-1 (natural gas well drilling pad site) can be viewed on the Commission's Web site, DRBC.net, as a link from this notice.

Hearing Procedure. In order to give everyone who wishes to testify a fair and equal opportunity to do so at the public hearing, which is expected to be heavily attended, the following procedures will be in effect:

• Registration to testify. Individuals who wish to speak at the hearing will be requested to print their names on a numbered list and complete a separate DRBC commenter card. Registrations to present oral testimony will begin at approximately 2:30 p.m. (30 minutes prior to the beginning of the hearing) and will continue until the hearing is closed. There will be no advance registration prior to February 24. For the convenience of those who wish to speak, more than one registration list may be used. Accordingly, speakers will be called in roughly, but not exactly, the order in which they registered.

• Time allowances. In order to allow everyone who wishes to speak an opportunity to do so, individuals will be allotted no more than three minutes to present their oral testimony. Speakers will not be permitted to cede their time to others; however, after everyone who wishes to speak has had a chance to do so, the hearing officer will accept requests from those who wish to supplement their earlier remarks. Individuals who have prepared written testimony are asked to summarize their comments during the three-minute period for oral testimony and to submit their complete written comments either at the public hearing or via e-mail, fax, U.S. Mail, delivery service, or hand delivery in accordance with the ADDRESSES section above, before 5 p.m. on March 12.

• Stenographic record. A court stenographer will be present to capture all verbal comments for the public record.

• Other. The sole purpose of the hearing on February 24 is to provide members of the public with an opportunity for oral testimony on the proposed Stone Energy dockets. The Commissioners and staff will not respond to comments at the hearing, nor will they conduct any other business that day. Because a separate hearing on the Stone Energy dockets is being held on February 24, oral testimony on these dockets will not be accepted during the Commission's regularly scheduled business meeting and public hearing on March 3, 2010. A separate notice will be published listing the hearing items and other matters to be considered during the meeting on March 3.

Project Descriptions. Detailed descriptions of the two projects are included in the draft dockets posted on the Commission's Web site (DRBC.net) as links from this notice. Brief descriptions of the two projects follow:

Stone Energy Corporation D-2009-13-1. An application for approval of a surface water withdrawal project to supply up to 21.0 mg/30 days (0.70 mgd) of water from a withdrawal point located on the West Branch Lackawaxen River in Mount Pleasant Township, Wayne County, Pennsylvania within the drainage area of the section of the Delaware River classified as Special Protection Waters (SPW). The water will be used to support natural gas well stimulation activities in an existing well located in Clinton Township, Wayne County, Pennsylvania (the Matoushek #1 well), also within the drainage area of SPW, and in proposed natural gas wells targeting the Marcellus Shale geologic formation within the SPW drainage area in the Commonwealth of Pennsylvania. Flow-back water from well stimulation activities is proposed to be exported to approved treatment facilities located outside of the Delaware River Basin.

Stone Energy Corporation D-2009-18-1. An application for approval of an existing natural gas well drilling pad site, including an existing vertically orientated natural gas well known as Matoushek #1, located in Clinton Township, Wayne County, Pennsylvania. The well is proposed to be stimulated through hydraulic fracturing from a proposed surface water source. An application for the proposed surface water withdrawal is being reviewed by the Commission under Docket No. D-2009-13-1. The proposed surface water withdrawal is located on the West Branch Lackawaxen River in Mount Pleasant Township, Wayne County, Pennsylvania. The target gas bearing geologic formation of Matoushek #1 is the Devonian-age Marcellus Shale. Flow-back water resulting from stimulation activities at the well is proposed to be exported to approved treatment facilities outside of the Delaware River Basin. The proposed drilling site is located within the drainage area of the section of the non-tidal Delaware River known as the Upper Delaware, which is designated as Special Protection Waters.

Additional public records relating to the draft Stone Energy docket may be available for review consistent with Article 8 of the Commission's Rules of Practice and Procedure (RPP) governing public access to records and information. The RPP are also available on the Commission's Web site, http://www.drbc.net.

Individuals in need of an accommodation as provided for in the Americans with Disabilities Act who wish to attend the hearing should contact the Commission secretary directly at 609-883-9500 ext. 203 or through the Telecommunications Relay Services (TRS) at 711, to discuss how the Commission can accommodate your needs.

Dated: February 8, 2010.
Pamela M. Bush,
Commission Secretary.

[FR Doc. 2010-3221 Filed 2-18-10; 8:45 am]

BILLING CODE 6360-01-P